NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by December 19, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670, as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-020

1. Applicant: Lyndsey Lewis, Quark Expeditions, Seattle, WA 98121. permits@quarkexpeditions.com

Activity for Which Permit Is Requested

Waste Management. The applicant seeks an Antarctic Conservation Permit for waste management activities associated with the operation of tour vessels in the Antarctic Peninsula region. Activities include helicopter flights and helicopter based shore activities at select locations, short overnight stays (camping) at select locations, and the use of remotely piloted aircrafts (RPAs) in Antarctica. For helicopter operations, the applicant would bring ashore cooking fuel and batteries to be used in emergency situations only. All materials brought shore during helicopter-based activities would be removed from the continent following each activity and measures would be taken to minimize environmental impact in the event of a release. Helicopters would only be refueled aboard the operator's vessel and measures will be in place to prevent accidental discharge. For short overnight stays (camping), the applicant seeks permission for no more than 60 campers and expedition staff to camp overnight at select locations for a maximum of 10 hours ashore. Camping would be away from vegetated sites and at least 150m from wildlife concentrations or lakes, protected areas, historical sites, and scientific stations. Tents would be pitched on snow, ice, or bare smooth rock, at least 15m from the high-water line. No food, other than emergency rations, would be brought onshore and all wastes, including human waste, would be collected and returned to the ship for proper disposal. For remotely piloted aircraft systems (RPAS) operation, the applicant proposes to operate small, battery-operated RPAS consisting, in part, of a quadcopter equipped with cameras to collect commercial and educational footage of the Antarctic. The quadcopter would not be flown over concentrations of birds or mammals, or over Antarctic Specially Protected Areas or Historic Sites and Monuments. The RPAS would only be operated by pilots with extensive experience, who are pre-approved by the Expedition Leader. Several measures would be taken to prevent against loss of the quadcopter including painting them a highly visible color; only flying when the wind is less than 25 knots; flying for only 15 minutes at a time to preserve battery life, a flotation device if operated over water, and an “auto go home” feature in case of loss of control link or low battery; having an observer on the lookout for wildlife, people, and other hazards; and ensuring that the separation between the operator and quadcopter does not exceed an operational range of 500 meters.

Location

Andvord Bay, Argentine Islands, Damoy Point/Dorian Bay, Danco Island, Errera Channel, Horseshoe Island, Hovgaard Island, Leith Cove, Lefevre-Utile Point, The Naze, Orne Harbor, Paradise Bay, Pleneau Island, Portal Point, Prospect Point, Ronge Island, Skontorp Cove, Stony Point, Antarctic Peninsula region.

Dates of Permitted Activities

November 1, 2022-March 31, 2027.

Permit Application: 2023-021

2. Applicant: John Dennis, Albatros Expeditions, 4770 Biscayne Blvd. PHR, Miami, FL 33137

Activity for Which Permit Is Requested

Waste Management. The applicant seeks an Antarctic Conservation Act permit for waste management activities associated with the use of Remotely piloted aircrafts (RPAs) and all-terrain vehicles (ATVs) in Antarctica. RPAs will be flown by experienced, pre-approved pilots for educational, commercial, or marketing purposes. Aircrafts will not be flown over any concentrations of wildlife, or any Antarctic Specially Protected or Specially Managed Areas or Historic Sites and Monuments without appropriate authorization. Operators will maintain visual line of sight with the aircraft during all flight operations, and measures will be in place to prevent loss of aircraft during operations. Observers will be present to observe for any wildlife or other potential hazards. ATVs will be used to support onshore activities and will be refueled once daily. Refueling of ATVs will be done by experienced staff and precautions will be taken to prevent any accidental release of fuel. Supplies will be on hand to assist in cleanup of any fuel spilled during operations. The applicant seeks a waste management permit to cover any accidental release that may result from the use of RPAs or ATVs.

Location

Antarctic Peninsula region.

Dates of Permitted Activities

November 1, 2022-March 31, 2027.

Permit Application: 2023-022

3. Applicant: Deirdre Dirkman, Vantage Travel, 90 Canal St., Boston, MA 02114

Activity for Which Permit Is Requested

Waste Management. The applicant seeks an Antarctic Conservation Permit for waste management activities associated with use of remotely piloted aircrafts (RPAs) in Antarctica. Aircrafts will be launched from land or by boat and will be used for commercial, marketing, or educational purposes only. RPAs will not be flown over any concentrations of wildlife, Antarctic Specially Protected or Managed Areas or Historic Sites and Monuments without appropriate authorization. Aircraft are only to be flown by experienced, pre-approved pilots in fair weather conditions and in the presence of an observer, who will always maintain visual line of sight with the aircraft during operation. Measures are in place to prevent loss of the aircraft.

Location

Antarctic Peninsula region, Ross Sea region.

Dates of Permitted Activities

December 20, 2022-March 31, 2027.

Permit Application: 2023-023

4. Applicant: David Sagrista, Atlas Ocean Voyages, 1 E Broward Blvd. Suite 800, Fort Lauderdale, FL 33301

Activity for Which Permit Is Requested

Waste Management. The applicant seeks an Antarctic Conservation Act permit for waste management activities associated with the use of Remotely piloted aircrafts (RPAs) in Antarctica. RPAs will be flown by experienced, pre-approved pilots for educational, commercial, or marketing purposes. RPAs will only be flown in fair-weather conditions with wind speeds less than 7m/s. Aircrafts will not be flown over any concentrations of wildlife, or any Antarctic Specially Protected or Managed Areas. Operators and observers will maintain visual line of sight with the aircraft during all flight operations, and measures will be in place to prevent loss of aircraft during operations. The applicant seeks a waste management permit to cover any accidental release that may result from the use of RPAs.

Location

Antarctic Peninsula region.

Dates of Permitted Activities

December 1, 2022-March 31, 2027.

Erika N. Davis,
Program Specialist, Office of Polar Programs.

[FR Doc. 2022-25032 Filed 11-16-22; 8:45 am]

BILLING CODE 7555-01-P